NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: October 30, 2019; 1:00 p.m.-5:00 p.m., October 31, 2019; 9:00 a.m.-3:30 p.m.

Place: National Science Foundation, 2415 Eisenhower Avenue, Alexandria, Virginia 22314, Room 2010.

Type of Meeting: Open.

Contact Person: Andrew Backe, National Science Foundation, Room W 7237, 2415 Eisenhower Avenue, Alexandria, Virginia 22314; Phone 703-292-2454.

Minutes: May be obtained from the contact person listed above.

Purpose of Meeting: To provide advice and recommendations to the National Science Foundation concerning support for polar research, education, infrastructure and logistics, and related activities.

Agenda

October 30, 2019; 1:00 p.m.-5:00 p.m.

Committee of Visitors (COV) Discussion

NSF Response to Polar Research Vessel Requirements Subcommittee Report

Advancing Earth System Modeling

Navigating the New Arctic (NNA) Update

Polar Safety

October 31, 2019; 9:00 a.m.-3:30 p.m.

Polar Advisory Overview Document

NSF Response to the Arctic Portfolio Review

Enhancing Diversity in the Polar Research Community

COV Member Selections

Office of Legislative and Public Affairs Media and Legislative Relations

Meeting with the NSF COO

Dated: September 26, 2019.
Crystal Robinson,
Committee Management Officer.

[FR Doc. 2019-21348 Filed 10-1-19; 8:45 am]

BILLING CODE 7555-01-P